DEPARTMENT OF COMMERCE

International Trade Administration

[A-570-846]

Brake Rotors from the People's Republic of China: Extension of Time Limit for the Final Results of the Expedited Sunset Review of the Antidumping Duty Order

AGENCY: Import Administration, International Trade Administration, Department of Commerce.

EFFECTIVE DATE: December 5, 2007.

FOR FURTHER INFORMATION CONTACT: Frances Veith, Import Administration, International Trade Administration, U.S. Department of Commerce, 14th Street & Constitution Avenue, NW, Washington, DC 20230; telephone: (202) 482-4295.

SUPPLEMENTARY INFORMATION:

Background

On July 2, 2007, the Department of Commerce (“the Department”) initiated a sunset review of the antidumping duty order on brake rotors from the People's Republic of China (“PRC”) pursuant to section 751(c) of the Tariff Act of 1930, as amended (“the Act”). See Initiation of Five-Year (“Sunset”) Reviews, 72 FR 35968 (July 2, 2007) (“Initiation Notice”). Based on an adequate response from the domestic interested party and an inadequate response from the respondent interested party, the Department is conducting an expedited sunset review to determine whether revocation of the antidumping order would lead to the continuation or recurrence of dumping, pursuant to section 751(c)(3)(B) of the Act and section 351.218(e)(1)(ii)(C)(2) of the Department's regulations. See Memorandum to the International Trade Commission regarding, “Expedited Sunset Review of the AD/CVD Order Initiated in July 2007,” dated August 21, 2007. On November 5, 2007, the Department published a notice extending the time limit for the completion of the final results of this review by 30 days until November 29, 2007. See Brake Rotors from the People's Republic of China: Extension of Final Results of the Expedited Sunset Review of Antidumping Duty Order, 72 FR 62430 (November 5, 2007).

Extension of Time Limits for Final Results

In accordance with section 751(c)(5)(B) of the Act, the Department may extend the 120-day time period for making its determination by not more than 90 days, if it determines that a review is extraordinarily complicated. As set forth in section 751(c)(5)(C)(i) of the Act, the Department may treat a sunset review as extraordinarily complicated if there are a large number of issues, as is the case in this proceeding. In particular, this sunset review involves complicated issues pertaining to adequacy of responses, related party status, and interested party status. Therefore, the Department has determined, pursuant to section 751(c)(5)(C)(i) of the Act, that the second sunset review of brake rotors from the PRC is extraordinarily complicated, as the Department must consider numerous arguments presented in the domestic interested party's and the U.S. importer's August 1, 2007, substantive response and each parties' August 6, 2007, rebuttals to the substantive responses. Based on the timing of the case, the final results of this expedited sunset review cannot be completed within the statutory time limit of 120 days. Accordingly, the Department is extending the time limit for the completion of the final results by an additional 32 days, from the November 29, 2007, extended deadline, to no later than December 31, 2007, in accordance with section 751(c)(5)(B) of the Act.

This notice is published pursuant to sections 751(a)(2)(B)(iv) and 777(i)(1) of the Act.

Dated: November 29, 2007.
Stephen J. Claeys,
Deputy Assistant Secretary for Import Administration.

[FR Doc. E7-23574 Filed 12-4-07; 8:45 am]

BILLING CODE 3510-DS-S